DEPARTMENT OF THE INTERIOR

Fish and Wildlife Service

[FWS-R2-ES-2015-0069; FXES11130200000-156-FF02ENEH00]

Draft Environmental Assessment and Draft Habitat Conservation Plan; Paso Robles Phase II; Hays County, Texas

AGENCY: Fish and Wildlife Service, Interior.

ACTION: Notice of availability; request for public comments.

SUMMARY: We, the U.S. Fish and Wildlife Service (Service), make available the draft Environmental Assessment (dEA) for the Paso Robles Phase II draft Habitat Conservation Plan (dHCP). Carma Paso Robles, LLC (applicant), has applied to the Service for an incidental take permit (ITP; TE-60266B-0) under the Endangered Species Act of 1973, as amended (Act). The requested permit would authorize incidental take of the federally listed golden-cheeked warbler as a result of activities associated with the applicant's proposed clearing and construction of a residential development (covered activities).

DATES: To ensure consideration, written comments must be received or postmarked on or before November 16, 2015. Comments submitted electronically using the Federal eRulemaking Portal (see ADDRESSES) must be received by 11:59 p.m. Eastern Time on the closing date. Any comments that we receive after the closing date may not be considered.

ADDRESSES: Availability of Documents:

Internet: You may obtain copies of all of the documents on the Internet at the Service's Web site at http://www.fws.gov/southwest/es/AustinTexas/.

U.S. Mail: A limited number of CD-ROM and printed copies of the draft EA and draft HCP are available, by request, from Mr. Adam Zerrenner, Austin Ecological Services Field Office, 10711 Burnet Road, Suite 200, Austin, TX 78758-4460; telephone 512-490-0057; fax 512-490-0974. Please note that your request is in reference to the Paso Robles Phase II HCP (TE-60266B-0).

The ITP application is available by mail from the Regional Director, U.S. Fish and Wildlife Service, P.O. Box 1306, Room 6034, Albuquerque, NM 87103.

In-Person: Copies of the draft EA and draft HCP are also available for public inspection and review at the following locations, by appointment and written request only, 8 a.m. to 4:30 p.m.:

• U.S. Fish and Wildlife Service, 500 Gold Avenue SW., Room 6034, Albuquerque, NM 87102.

• U.S. Fish and Wildlife Service, 10711 Burnet Road, Suite 200, Austin, TX 78758.

Comment submission: You may submit written comments by one of the following methods:

• Electronically: Go to the Federal e-Rulemaking Portal: http://www.regulations.gov. In the Search box, enter FWS-R2-ES-2015-0069, which is the docket number for this notice. On the left side of the screen, under the Document Type heading, click on the Notices link to locate this document and submit a comment.

• By hard copy: Submit comments by U.S. mail or hand-delivery to: Public Comments Processing, Attn: FWS-R2-ES-2015-0069; Division of Policy, Performance, and Management Programs; U.S. Fish and Wildlife Service, MS: BPHC; 5275 Leesburg Pike; Falls Church, VA 22041-3803.

We request that you send comments by only the methods described above. We will post all information received on http://www.regulations.gov. This generally means that we will post any personal information you provide us (see the Public Availability of Comments section for more information).

FOR FURTHER INFORMATION CONTACT: Adam Zerrenner, Field Supervisor, by U.S. mail at U.S. Fish and Wildlife Service, 10711 Burnet Road, Suite 200, Austin, TX 78758 or by phone at (512) 490-0057.

SUPPLEMENTARY INFORMATION: We make available the dEA for the Paso Robles Phase II dHCP. Carma Paso Robles, LLC (applicant), has applied to the Service for an incidental take permit (ITP; TE-60266B-0) under the Endangered Species Act (Act) of 1973, as amended. The requested permit, which would be in effect for a period of 10 years, if granted, would authorize incidental take of the federally listed golden-cheeked warbler (Setophaga [= Dendroica] chrysoparia; GCWA). The proposed take would occur on 114.4 acres of the 376-acre Paso Robles Phase II development (permit area) in Hays County, Texas, as a result of activities associated with the applicant's proposed clearing and construction of a residential development (covered activities).

In accordance with the requirements of the National Environmental Policy Act of 1969 (NEPA) (42 U.S.C. 4321 et seq.), we advise the public that:

1. We have gathered the information necessary to determine impacts and formulate alternatives for the dEA related to potential issuance of an ITP to the applicant; and

2. The applicant has developed a dHCP as part of the application for an ITP, which describes the measures the applicant has agreed to take to minimize and mitigate the effects of incidental take of GCWAs to the maximum extent practicable pursuant to section 10(a)(1)(B) of the Act.

The dEA considers the direct, indirect, and cumulative effects of implementation of the dHCP, including the measures that will be implemented to minimize and mitigate, to the maximum extent practicable, the impacts of the incidental take of the covered species.

Proposed Action

The proposed action is the issuance of an ITP by the Service for the covered activities in the permit area, pursuant to section 10(a)(1)(B) of the Act for a period of 10 years. The ITP would cover “take” of the covered species associated with the clearing and construction of a residential development within the permit area.

To meet the requirements of a section 10(a)(1)(B) ITP, the applicant has developed and proposes to implement its dHCP, which describes the conservation measures the applicant has agreed to undertake to minimize and mitigate for the impacts of the proposed incidental take of the covered species to the maximum extent practicable, and ensures that incidental take will not appreciably reduce the likelihood of the survival and recovery of these species in the wild.

The applicant proposes to mitigate with the purchase of 114.4 acres of high-quality habitat, likely from a Service-approved habitat conservation bank.

Alternatives

We considered two alternatives to the proposed action:

1. No Action—No ITP would be issued. Therefore, the applicant would not implement the conservation measures described in the HCP.

2. Higher Mitigation Alternative—This alternative is similar to the Proposed Action in that the Service would issue an ITP for the proposed project. However, the HCP under this alternative would be modified to increase the number of GCWA habitat conservation credits the applicant would purchase to 359.6 acres. All other aspects of the proposed project and the HCP would remain the same.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. We will not consider anonymous comments. All submissions from organizations or businesses, and from individuals identifying themselves as representatives or officials of organizations or businesses, will be made available for public disclosure in their entirety.

Authority

We provide this notice under section 10(c) of the Act and its implementing regulations (50 CFR 17.22 and 17.32) and NEPA and its implementing regulations (40 CFR 1506.6).

Dated: June 10, 2015.
Joy E. Nicholopoulos,
Acting Regional Director, Southwest Region, U.S. Fish and Wildlife Service.

Editorial Note: This document was received at the Federal Register on September 11, 2015.

[FR Doc. 2015-23242 Filed 9-15-15; 8:45 am]

BILLING CODE 4310-55-P